INTERNATIONAL TRADE COMMISSION

[Investigation No. 337-TA-1351 (Remand)]

Certain Active Matrix Organic Light-Emitting Diode Display Panels and Modules for Mobile Devices, and Components Thereof; Notice of the Commission's Final Determination Finding No Violation of Section 337; Termination of the Investigation

AGENCY: U.S. International Trade Commission.

ACTION: Notice.

SUMMARY: Notice is hereby given that the U.S. International Trade Commission has determined to find no violation of section 337 of the Tariff Act of 1930, as amended, in this investigation. The investigation is terminated in its entirety.

FOR FURTHER INFORMATION CONTACT: Cathy Chen, Office of the General Counsel, U.S. International Trade Commission, 500 E Street SW, Washington, DC 20436, telephone (202) 205-2392. Copies of non-confidential documents filed in connection with this investigation may be viewed on the Commission's electronic docket system (“EDIS”) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: The Commission instituted this investigation on February 3, 2023, based on a complaint filed by Samsung Display Co., Ltd. (“SDC” or “Complainant”) of the Republic of Korea. 88 FR 7,463-64 (Feb. 3, 2023). The complaint, as supplemented, alleged violations of section 337 in the importation into the United States, the sale for importation, or the sale within the United States after importation of certain active matrix organic light-emitting diode display panels and modules for mobile devices, and components thereof by reason of infringement of claims 1-5 and 19-21 of U.S. Patent No. 9,818,803 (“the '803 patent”); claims 1, 2, 4-10, and 13 of U.S. Patent No. 10,854,683 (“the '683 patent”); claims 1-18 of U.S. Patent No. 7,414,599 (“the '599 patent”); and claims 1-3, 6-8, and 14-22 of U.S. Patent No. 9,330,593 (“the '593 patent”). Id. The complaint further alleged that a domestic industry exists. Id. The notice of investigation named the following parties as respondents: Injured Gadgets, LLC (“Injured Gadgets”) of Norcross, Georgia; Wholesale Gadget Parts, Inc. (“Wholesale Gadget Parts”) of Bixby, Oklahoma; Phone LCD Parts LLC and Parts4LCD (collectively, “Phone LCD Parts”) of Wayne, New Jersey; Apt-Ability LLC d/b/a MobileSentrix of Chantilly, Virginia; Mobile Defenders, LLC of Caledonia, Michigan; Group Vertical, LLC (“Group Vertical”) of Grand Rapids, Michigan; Electronics Universe, Inc. d/b/a Fixez.com and Electronics Universe, Inc. d/b/a Repairs Universe, Inc. (“Electronics Universe”) of Las Vegas, Nevada; LCTech International Inc. d/b/a SEGMobile.com (“LCTech”) of City of Industry, California; Sourcely Plus, LLC (“Sourcely Plus”) of Tempe, Arizona; eTech Parts Plus LLC (“eTech Parts Plus”) of Southlake, Texas; Parts4Cells Inc. (“Parts4Cells”) of Houston, Texas; Captain Mobile Parts, Inc. (“Captain Mobile Parts”) of Dallas, Texas; DFW Imports LLC d/b/a DFW Cellphone and Parts (“DFW Imports”) of Dallas, Texas; Mengtor Inc. (“Mengtor”) of El Monte, California; and Gadgetfix Corp. (“Gadgetfix”) of Irvine, California. Id. The notice of investigation also named the Office of Unfair Import Investigations (“OUII”) as a party. Id.

On March 22, 2023, the Commission granted Mianyang BOE Optoelectronics Technology Co., Ltd.'s (“BOE”) unopposed motion to intervene as a respondent in this investigation. Order No. 7 (Mar. 15, 2023), unreviewed by Comm'n Notice (Mar. 22, 2023).

Two respondents, Apt-Ability LLC d/b/a MobileSentrix and Mobile Defenders, LLC, were terminated based on a consent order. Order No. 43 (Dec. 20, 2023), unreviewed by Comm'n Notice (Apr. 18, 2024). Ten respondents, Captain Mobile Parts, Group Vertical, Sourcely Plus, Mengtor, Electronics Universe, LCTech, Parts4Cells, DFW Imports, Gadgetfix, and eTech Parts Plus were found in default. Order No. 16 (May 10, 2023), unreviewed by Comm'n Notice (June 7, 2023); Order No. 22 (Jun. 27, 2023), unreviewed by Comm'n Notice (July 20, 2023); Order No. 25 (Jul. 19, 2023), unreviewed by Comm'n Notice (Aug. 18, 2023); Order No. 27 (Aug. 8, 2023), unreviewed by Comm'n Notice (Aug. 30, 2023). Accordingly, respondents Injured Gadgets, Wholesale Gadget Parts, and Phone LCD Parts (collectively, “the BLF Respondents”) and BOE remain active in the investigation.

On April 20, 2023, the Commission granted SDC's motion for leave to amend the complaint and notice of investigation to add allegations of infringement related to claims 1-6, 10, 12, 17, 19, 21-23, 40-47, and 51-52 of the '578 patent. Order No. 8 (Mar. 28, 2023), unreviewed by Comm'n Notice (Apr. 20, 2023). When the final ID issued, only claims 5 and 21 of the '803 patent, claims 5, 10, 17, 40-41, and 47 of the '578 patent, claims 2-3, 13, and 15-16 of the '599 patent, and claim 6 of the '593 patent remain asserted in the investigation as a result of termination of all asserted claims of the '683 patent and certain other asserted claims. See Order No. 34 (Oct. 26, 2023), unreviewed by Comm'n Notice (Nov. 27, 2024), Order No. 39 (Dec. 7, 2023), unreviewed by Comm'n Notice (Jan. 8, 2024), Order No. 51 (Jun. 14, 2024), unreviewed by Comm'n Notice (Jul. 3, 2024), Order No. 65 (Aug. 27, 2024), unreviewed by Comm'n Notice (Sept. 26, 2024).

On November 15, 2023, the BLF Respondents and BOE (collectively, “Respondents”) moved for summary determination that SDC lacked standing to bring and maintain this investigation. Respondents argued because SDC's parent company, Samsung Electronics Co., Ltd. (“SEC”), “has an unfettered right to grant licenses, SDC lacks the exclusionary rights necessary to prove standing.” Mot. at 18. Finding that “there is no genuine issue of material fact that SEC has an unrestricted right to sublicense the Asserted Patents to others” and that SEC's possession of such a right divested SDC of exclusionary rights, on January 9, 2024, the ALJ granted Respondents' motion for summary determination of no violation due to lack of standing. Order No. 44 at 13, 24-25 (Jan. 9, 2024).

On April 24, 2024, the Commission vacated that initial determination and remanded the investigation for further proceedings consistent with its opinion. In its opinion, the Commission found that “(1) constitutional standing, the Article III requirements of the Constitution related to the authority of federal courts to adjudicate lawsuits, is not required at [the] Commission; and (2) there are genuine issues of material facts relating to [Complainant's] rights in the asserted patents.” Comm'n Op. at 2. The Commission remanded the investigation to the ALJ to “conduct further proceedings as appropriate and consistent with the Commission's opinion herewith.” Id.

On May 2, 2024, the ALJ held a case management conference to discuss how the case would proceed on remand. Respondent BOE indicated that it wished to argue that SDC lacked “all substantial rights” to the asserted patents when it filed its complaint and that it wished to pursue discovery from SEC on this issue. Order No. 50 at 3 (June 11, 2024). SDC responded that a statutory cause of action defense had never previously been raised and thus was waived. Id. at 5. OUII noted that “Respondents' argument that [SDC] may not have owned the asserted patents when it filed the complaint because it did not hold all substantial rights is fundamentally different from the argument advanced in Respondents' motion for summary determination.” Id. The ALJ then ordered “additional briefing” on “the effect of the Commission opinion on th[e] Investigation.” Order No. 47, EDIS Doc. ID 820416, at 1 (May 3, 2024). Following a teleconference and briefing on remand, the ALJ found that Respondents waived their argument that SDC lacked “all substantial rights” to the Asserted Patents and thus failed to satisfy the requirement of Commission Rule 210.12(a)(7) because Respondents did not address this issue in their prehearing brief, as required by the ALJ's Ground Rules. ID at 4 (citing Order No. 50 at 4).

The evidentiary hearing was held on July 8-9, 2024, and July 15-17, 2024.

On November 15, 2024, the ALJ issued a final ID, finding no violation of section 337 because SDC failed to show the existence of a domestic industry, among other reasons. In particular, the ID found: (1) SDC met its burden under Rule 210.12(a)(7); (2) SDC failed to satisfy the economic prong of the domestic industry requirement for all asserted patents; (3) SDC satisfied the technical prong of the domestic industry requirement for the '803, the '578, and the '599 patents but not for the '593 patent; (4) at least one representative accused product infringes claims 5 and 21 of the '803 patent, claims 5, 10, 17, 40-41, and 47 of the '578 patent, claims 15-16 of the '599 patent, and claim 6 of the '593 patent but not claims 2-3 and 13 of the '599 patent; and (5) the claims have not been shown to be invalid.

On November 29, 2024, SDC filed a petition for review of the ID challenging certain findings related to the '803, the '578, and the '599 patents, including the economic prong of the domestic industry requirement. SDC did not petition for review of the ID's findings related to the '593 patent. That same day, Respondent BOE and the BLF Respondents filed a joint contingent petition for review. OUII did not file a petition for review. On December 9, 2024, Complainant, Respondents, and OUII each filed a response to the petitions.

The Commission solicited submissions from the public on the public interest issues raised by the recommended determination. 89 FR 92721 (Nov. 22, 2024). The Commission received comments from Representative John Moolenaar, Chairman of the House Select Committee on China, and Dr. Robert D. Atkinson of the Information Technology & Innovation Foundation.

On January 8, 2025, SDC filed a notice of supplemental authority to apprise the Commission of the Patent Trial and Appeal Board's final written decisions in inter partes review proceedings on the '578 patent and the '803 patent. In the final written decisions, the Board found claim 21 of the '803 patent unpatentable and all other asserted claims of the '578 and '803 patents at issue in this investigation had not been proven unpatentable. See Mianyang BOE Optoelectronics Tech. Co., Ltd. v. Samsung Display Co., Ltd., IPR2023-00987, Final Written Decision (Jan. 6, 2025); Mianyang BOE Optoelectronics Tech. Co., Ltd. v. Samsung Display Co., Ltd., IPR2023-01075, Final Written Decision (Jan. 6, 2025).

On January 16, 2025, the Commission determined to review the ID in part. Specifically, the Commission determined to review: (1) the ID's findings that the Commission has statutory authority to investigate Complainant SDC's alleged violation under section 337 and that Respondents waived their argument that SDC lacked the ability to bring this investigation under Commission Rule 210.12; (2) the ID's findings related to the technical prong for the '803 patent; and (3) the ID's findings regarding the economic prong of the domestic industry requirement. 90 FR 8,034-036 (Jan. 23, 2024). The Commission determined not to review any other findings presented in the final ID, including the ID's finding of no violation of section 337 with respect to the '593 patent. The Commission requested briefing from the parties on certain issues under review and on remedy, the public interest, and bonding. The parties filed their opening written submissions on January 30, 2025, and their responsive written submissions on February 6, 2025.

On review, the Commission has found no violation of section 337 with respect to claims 5 and 21 of the '803 patent; claims 5, 10, 17, 40-41, and 47 of the '578 patent; and claims 2-3, 13, and 15-16 of the '599 patent. Specifically, the Commission has determined to affirm the ALJ's finding that the Commission has statutory authority to investigate Complainant's alleged violation under section 337. The Commission has also determined to affirm the ID's finding that representative display panels in the asserted domestic industry products practice claim 21 of the '803 patent. The Commission has further determined to affirm with modified reasoning the ID's finding that Complainant failed to demonstrate the existence of a domestic industry under sections 337(a)(3)(A) and (B). Based on this dispositive finding, the Commission has determined to take no position on whether the asserted domestic industry products also practice claim 5 of the '803 patent and whether Respondents forfeited their argument that Complainant is not the owner of the Asserted Patents under Commission Rule 210.12(a)(7).

Accordingly, the investigation is terminated with a finding of no violation. The Commission's reasoning in support of its determinations is set forth more fully in its opinion issued concurrently herewith.

The Commission vote for this determination took place on March 19, 2025.

The authority for the Commission's determination is contained in section 337 of the Tariff Act of 1930, as amended (19 U.S.C. 1337), and in Part 210 of the Commission's Rules of Practice and Procedure (19 CFR part 210).

By order of the Commission.
Issued: March 19, 2025.
Lisa Barton,
Secretary to the Commission.

[FR Doc. 2025-04982 Filed 3-24-25; 8:45 am]

BILLING CODE 7020-02-P